Proclamation 9281 of May 15, 2015

Emergency Medical Services Week, 2015

By the President of the United States of America

A Proclamation

Few moments are as terrifying as those when medical emergencies strike. But thanks to the courageous efforts of all who provide emergency medical services (EMS), Americans know they and their loved ones will be cared for in their hours of greatest need. As we mark Emergency Medical Services Week, we thank these selfless women and men, and we recommit to upholding an EMS system that is ready every day for every emergency.

Time and again, our Nation has witnessed the critical role EMS professionals play in the lives of our people. Whether 911 dispatchers, emergency medical technicians, paramedics, EMS medical directors, law enforcement officers, firefighters, or nurses, they are dedicated first responders who operate at the crossroads between health care, public safety, and public health—often without pay as volunteers. In intense, high-stress situations, these professionals and volunteers come to the aid of their fellow Americans, easing suffering and frequently making the difference between life and death.

This week, we celebrate the EMS providers who risk their own lives and health to protect the well-being of others. At scenes of accidents and natural disasters, in times of personal crisis and national tragedy, they offer essential services and demonstrate the strength and resilience of the American people. As these heroes rush forward for us, may we remember to stand for them, and may we never forget that an efficient, high-quality EMS system is crucial to ensuring care during any emergency.

NOW, THEREFORE, I, BARACK OBAMA, President of the United States of America, by virtue of the authority vested in me by the Constitution and the laws of the United States, do hereby proclaim May 17 through May 23, 2015, as Emergency Medical Services Week. I encourage all Americans to observe this occasion by showing their support for their local EMS providers and taking steps to improve their personal safety and preparedness.

IN WITNESS WHEREOF, I have hereunto set my hand this fifteenth day of May, in the year of our Lord two thousand fifteen, and of the Independence of the United States of America the two hundred and thirty-ninth.

[FR Doc. 2015-12433

Filed 5-19-15; 11:15 am]

Billing code 3295-F5